DEPARTMENT OF HOUSING AND URBAN DEVELOPMENT

24 CFR Parts 91 and 92

[Docket No. FR-6144-F-06]

RIN 2506-AC50

HOME Investment Partnerships Program: Further Program Updates and Streamlining

AGENCY: Office of the Secretary, U.S. Department of Housing and Urban Development (HUD).

ACTION: Final rule.

SUMMARY: This final rule further extends the effective date for certain provisions of the HOME Investment Partnerships Program: Program Updates and Streamlining final rule (HOME Final Rule) published in the Federal Register on January 6, 2025, which was scheduled to take effect on October 30, 2025. This publication announces that HUD is further delaying the effective or compliance dates for certain provisions of the HOME Final Rule.

DATES: As of October 22, 2025, the effective date for amendatory instruction 3 (revising 24 CFR 92.250) of the rule published at 90 FR 16085, April 17, 2025, is delayed until April 30, 2026. As of October 22, 2025, amendatory instruction 27 (revising 24 CFR 92.253) published at 90 FR 746 (January 6, 2025), which was initially delayed at 90 FR 8780 (February 3, 2025), and subsequently delayed at 90 FR 16085 (April 17, 2025), is further delayed until April 30, 2026.

FOR FURTHER INFORMATION CONTACT: Bryan Horn, Acting Principal Deputy Assistant Secretary, Office of Community Planning and Development, Department of Housing and Urban Development, 451 7th Street SW, Room 7272, Washington, DC 20410, telephone number 202-402-4270 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: On January 6, 2025, HUD published the HOME Final Rule in the Federal Register. The HOME Final Rule provided for the rule to take effect on February 5, 2025. On February 3, 2025, HUD delayed the effective date of some elements of the HOME Final Rule until April 20, 2025. HUD further delayed these provisions until October 30, 2025. HUD now further extends the effective date until April 30, 2026.

Scott Turner,
Secretary.

[FR Doc. 2025-19626 Filed 10-21-25; 8:45 am]

BILLING CODE 4210-67-P